INTERNATIONAL TRADE COMMISSION

[Investigations Nos. 701-TA-413 and 731-TA-913-916 and 918 (Final)]

Stainless Steel Bar From France, Germany, Italy, Korea, and the United Kingdom

Determinations

On the basis of the record¹ developed in the subject investigations, the United States International Trade Commission determines, pursuant to section 705(b) of the Tariff Act of 1930 (19 U.S.C. § 1671d(b))(the Act), that an industry in the United States is materially injured by reason of imports from Italy of stainless steel bar, provided for in subheadings 7222.11.00, 7222.19.00, 7222.20.00, and 7222.30.00 of the Harmonized Tariff Schedule of the United States (HTS), that have been found by the Department of Commerce to be subsidized by the Government of Italy.

¹ The record is defined in sec. 207.2(f) of the Commission's Rules of Practice and Procedure (19 CFR 207.2(f)).

The Commission also determines, pursuant to section 735(b) of the Act (19 U.S.C. 1673d(b)), that an industry in the United States is materially injured by reason of imports from France, Germany, Italy, Korea, and the United Kingdom of stainless steel bar, provided for in the HTS subheadings listed above, that have been found by the Department of Commerce to be sold in the United States at less than fair value (LTFV).

Background

The Commission instituted these investigations effective December 28, 2000, following receipt of a petition filed with the Commission and Commerce by Carpenter Technology Corp. (Wyomissing, PA); Crucible Specialty Metals (Syracuse, NY); Electralloy Corp. (Oil City, PA); Empire Specialty Steel, Inc. (Dunkirk, NY); Slater Steels Corp., Specialty Alloys Division (Fort Wayne, IN); and the United Steelworkers of America, AFL-CIO/CLC (Pittsburgh, PA). The final phase of the investigations was scheduled by the Commission following notification of preliminary determinations by Commerce certain imports of stainless steel bar from Italy were being subsidized within the meaning of section 703(b) of the Act (19 U.S.C. 1671b(b)) and that certain imports of stainless steel bar from France, Germany, Italy, Korea, and the United Kingdom were being sold at LTFV within the meaning of section 733(b) of the Act (19 U.S.C. 1673b(b)).² Notice of the scheduling of the final phase of the Commission's investigations and of a public hearing to be held in connection therewith was given by posting copies in the Office of the Secretary, U.S. International Trade Commission, Washington, DC, and by publishing the notice in the Federal Register of September 17, 2001 (66 FR 48063).³ The hearing was held in Washington, DC, on January 17, 2002, and all persons who requested the opportunity were permitted to appear in person or by counsel.

² Investigation No. 731-TA-917 (Final), concerning stainless steel bar from Taiwan, was terminated effective January 23, 2002 (67 FR 4745, January 31, 2002), consequent to Commerce's final negative LTFV determination with respect to Taiwan (67 FR 3152, January 23, 2002).

³ The Commission published notice of its revised schedule on November 20, 2001 (66 FR 58162).

The Commission transmitted its determinations in these investigations to the Secretary of Commerce on February 28, 2002. The views of the Commission are contained in USITC Publication 3488 (February 2002), entitled Stainless Steel Bar from France, Germany, Italy, Korea, and the United Kingdom: Investigation No. 701-TA-413 (Final) and Investigations Nos. 731-TA-913-916 and 918 (Final).

Issued: March 4, 2002.
By order of the Commission.
Marilyn R. Abbott
Acting Secretary.

[FR Doc. 02-5615 Filed 3-7-02; 8:45 am]

BILLING CODE 7020-02-M